DEPARTMENT OF TRANSPORTATION

Federal Transit Administration

Preparation of an Environmental Impact Statement/Environmental Impact Report for the Geary Bus Rapid Transit Project in San Francisco, CA

AGENCY: Federal Transit Administration (FTA), Department of Transportation.

ACTION: Notice of Intent (NOI) to prepare an Environmental Impact Statement (EIS).

SUMMARY: The Federal Transit Administration (FTA) and the San Francisco County Transportation Authority (The Authority) intend to prepare an EIS on the implementation of a fixed-guideway transit system in the Geary Boulevard Corridor located between the Transbay Terminal on the east (at First and Mission Streets) and 33rd Avenue on the west. Alternatives proposed to be considered in the draft EIS include a combined No Project/Transportation Systems Management (TSM) Alternative, a Geary BRT Alternative and any additional reasonable alternatives that emerge from the study process. The EIS will be prepared to satisfy the requirements of the National Environmental Policy Act of 1969 (NEPA) and its implementing regulations. The FTA and The Authority request public and interagency input on the purpose and need to be addressed by the project, the alternatives to be considered in the EIS, and the environmental and community impacts to be evaluated.

DATES: Written comments on the scope of the NEPA review, including the project's purpose and need, the alternatives to be considered, and the related impacts to be assessed, should be sent to The Authority by December 24, 2008. See ADDRESSES below.

Scoping Meetings: Meetings to accept comments on the scope of the EIS will be held on December 4 and December 6, 2008 at the locations given below. On December 4, 2008, the public scoping meeting will begin at 6 p.m. and continue until 8 p.m. or until all who wish to provide oral comments have been given the opportunity. The meeting on December 6, 2008 will begin at 10 a.m. and continue until 12 p.m. or until all who wish to provide oral comments have been given the opportunity.

The locations are accessible to people with disabilities. A court reporter will record oral comments. Forms will be provided on which to submit written comments. Project staff will be available at the meeting to informally discuss the EIS scope and the proposed project. Governmental agencies will be invited to a separate scoping meeting to be held on December 3, 2008 at the San Francisco County Transportation Authority between 1 p.m. and 3 p.m.

ADDRESSES: Written comments on the scope of the EIS, including the project's purpose and need, the alternatives to be considered, and the related impacts to be assessed, should be sent to Zabe Bent, Principal Transportation Planner; San Francisco County Transportation Authority; 100 Van Ness Avenue, 26th Floor; San Francisco, CA 94102. Phone: (415) 522-4819. Fax: (415) 522-4829. E-mail: Elizabeth.Bent@sfcta.org. Please include the name of an appropriate contact person in your agency for continued EIS coordination. Further project information will be available at the scoping meetings and may also be obtained by calling (415) 522-4800, by downloading materials from http://www.GearyBRT.org or by e-mailing gearybrt@sfcta.org.

SUPPLEMENTARY INFORMATION:

I. Background/Project Description

The proposed project would be located in the Geary Boulevard Corridor, a key east-west transportation corridor in the heart of the City and County of San Francisco. Geary Boulevard is an important roadway and transit route serving high-density commercial and residential areas along its length from Market Street on the east to Pacific Ocean on the west. The project aims to improve travel times and reliability in the portion of the transit corridor located between the Transbay Terminal on the east (at First and Mission Streets) and 33rd Avenue on the west; special focus will be on the segment located west of Van Ness Avenue which is the most congested portion of the corridor. The roadway serves as a major thoroughfare for local traffic as well as through traffic, carrying over 50,000 transit trips per day, between 30,000 and 65,000 auto trips daily depending on the location on the corridor, and thousands of pedestrian and bicycle trips. Transit service is provided by Muni route 38-Geary (including 38L, 38AX, and 38BX), and by Golden Gate Transit (based in Marin County), which operates commute service and limited all-day service into San Francisco on Geary Boulevard. Unlike many transit routes that primarily serve commuters, transit ridership on Geary Boulevard is consistently high throughout the day, on both weekdays and weekends, and in both the eastbound and westbound directions. A number of major north-south transit routes cross Geary Boulevard and generate major bus-to-bus transfers with Geary Boulevard services, including Muni lines 22-Fillmore, 49-Van Ness, 30-Stockton, and 14-Mission (including 14L and 14X), and the Muni Metro T-Line (formerly 15-Third). In addition to the routes on and perpendicular to Geary Boulevard, routes that operate within a few blocks of Geary Boulevard are considered part of the broader Geary corridor, including 1-California (including 1AX and 1BX), 2-Clement, 3-Jackson, 4-Sutter, and 31-Balboa.

Traffic congestion in mixed-flow traffic lanes and transit overcrowding result in poor transit service reliability and low average bus speeds, currently just 8 to 10 miles per hour for Muni Route 38-Geary. Bus reliability is poor, with high variation in headways and bunching. Buses serve as much as 25% of the trips made in the Geary Boulevard corridor in the PM peak hour, with the highest passenger loads between Fillmore Street and Van Ness Avenue. For all neighborhoods in the corridor, walking also accounts for a large percentage of trips. The non-auto mode share in the neighborhoods located in the heart of the city is as follows: The Tenderloin is over 50% bike, walk and transit; in the Western Addition/Japantown, it is 40%; and in the Richmond it is just over 30%. In spite of high transit ridership and high pedestrian use, much of the current roadway layout and traffic signal infrastructure on Geary primarily benefits motorists more than it benefits transit riders and pedestrians. A major project purpose is, therefore, to improve its walkability and livability.

Geary Boulevard has been identified as a high priority transit improvement corridor in a number of planning studies and funding actions by the City and County of San Francisco. The Authority's Four Corridors Plan (1995) and Muni's Vision for Rapid Transit (2000) and Transit Effectiveness Project (2008) identify Geary Boulevard as a priority corridor for rapid transit improvements. Along with two other key transit corridors, Geary Boulevard was designated for BRT improvements in the New Expenditure Plan for San Francisco, approved in November 2004 by voters as Proposition K, the reauthorization of the City's half-cent transportation sales tax measure. The Expenditure Plan is the investment component of the 2004 San Francisco Countywide Transportation Plan, which sets forth the city's “blueprint to guide the development of transportation funding priorities and policy” with a key objective being the promotion and implementation of San Francisco's Transit First policy through the development of a network of fast, reliable transit including bus rapid transit. The Geary Corridor BRT Study (the Feasibility Study) was initiated in 2004, completed in 2007, and evaluated the feasibility of four alternative BRT configurations on Geary Boulevard. A Transportation Systems Management (TSM) and three full-featured BRT alternatives were developed and compared with a No Project scenario, in conjunction with a comprehensive public and agency participation program. The Feasibility Study found that all the BRT configurations studied would be feasible on Geary and recommended an environmental analysis and further technical design work to identify a preferred alternative. The alternatives—and others identified through the scoping process—will be addressed in the proposed project EIS.

As discussed above, previous studies and documents relevant to this action include the recently completed Geary Boulevard BRT Feasibility Study (June 2007); 2005 Prop K Strategic Plan (March 2005); 2004 San Francisco Countywide Transportation Plan (adopted July 20, 2004), and the New Transportation Expenditure Plan for San Francisco (Proposition K, approved November 4, 2003). These documents describe the planning and funding for transportation improvements in San Francisco, including BRT in major bus corridors.

II. Scoping

The FTA and The Authority invite all interested individuals, organizations, and Federal, State, and local governmental agencies to comment on the project's purpose and need, the alternatives to be considered in the EIS and the impacts to be evaluated. During the scoping process, comments on the proposed statement of purpose and need should address its completeness and adequacy. Comments on the alternatives should propose alternatives that would satisfy the purpose and need at less cost or with greater effectiveness or less environmental or community impact and were not previously studied and eliminated for good cause. At this time, comments should focus on the scope of the NEPA review and should not state a preference for a particular alternative. The best opportunity for that type of input will be after the release of the draft EIS.

Following the scoping process, public outreach activities with interested parties or groups will continue throughout the duration of work on the EIS. The project Web site, http://www.GearyBRT.org, will be updated periodically to reflect the status of the project. Additional opportunities for public participation will be announced through mailings, notices, advertisements, and press releases. Those wishing to be placed on the project mailing list may do so by registering on the Web site at http://www.GearyBRT.org, or by calling (415) 522-4819.

Public and agency scoping meetings to be held on:

Thursday, December 4, 2008, Self Help for the Elderly, Jackie Chan Activity Center, 408—22nd Avenue (at Geary), 6-8 p.m.

Saturday, December 6, 2008, Tenderloin Community School, 627 Turk Street (at Polk), 10 a.m.-12 p.m.

An agency scoping meeting will be held on:

Wednesday, December 3, 2008, San Francisco County Transportation Authority, 100 Van Ness Avenue, 26th Floor (at Fell), 1-3 p.m.

Comments on issues and impacts to be considered in preparation of the EIS will be recorded.

III. Purpose and Need

The Authority adopted as part of the 2004 Countywide Transportation Plan and its investment component, the New Expenditure Plan for San Francisco, a BRT strategy for expanding rapid transit service in San Francisco. The BRT network is intended to address the following purpose:

1. Support the city's growth and development needs;

2. Better serve existing transit riders and stem and reverse the trend toward transit mode share loss; and

3. Improve the operational efficiency and cost effectiveness of the transportation system.

A BRT network can meet those goals by:

• Improving transit levels of service cost effectively;

• Strengthening rapid transit services;

• Raising the cost effectiveness of Muni service and operational efficiency of transit preferential streets; and

• Contributing to the livability of BRT corridors.

IV. Alternatives

Alternatives to be reviewed in the EIS include a (1) combined No-Project/Transportation Systems Management (TSM) Alternative, which would include low-cost improvements to corridor bus services, such as bus stop amenities and limited transit signal priority; (2) a Geary BRT Alternative, which will include design options for the configuration of the BRT transitway and stations; and (3) any additional reasonable alternatives that emerge from the study process.

The No-Project/TSM Alternative assumes a 2015 condition of land use and transit capital and service improvements that are programmed or planned to be implemented by the San Francisco Municipal Transportation Agency (SFMTA) (which includes the San Francisco Municipal Railway and the Department of Parking and Traffic), and other transit providers in the study area (e.g., Golden Gate Transit and the Bay Area Rapid Transit District, or BART, a regional rail service provider). For transit, these include upgraded bus stops and passenger information/communication systems. Other transit improvements could include advanced traffic signal priority systems on Muni vehicles, rationalizing the allocation of limited vs. local Muni service in the corridor, expanding Muni service hours to 7 p.m. on weekdays, and enhanced Muni transit shelters and signage.

The Geary BRT Alternative would include, among other features:

• Dedicated transit lanes within the existing Geary Boulevard right-of-way;

• Sheltered, low-platform passenger stations with real-time bus arrival passenger information signs, lighting, and fare ticketing machines;

• Off-vehicle self-service fare vending and on-board proof-of-payment verification; and

• Advanced transit traffic signal priority and traffic management systems to reduce bus delays at signalized intersections yet maintain acceptable traffic flow.

Preferred spacing for passenger stations would be an average of one-half mile between stops, with local bus stations located every 800 to 1000 feet. BRT transitway and station improvements would be made entirely within existing public rights-of-way; improvements outside of existing public-rights of way are not anticipated with the possible exception of required improvements to existing Muni bus storage and maintenance facilities and to off-alignment intersections for mitigation of project impacts. Variations in the cross-section for the BRT transitway and the locations of stations are anticipated and would comprise design options for the basic BRT alignment. A two-way transitway either in the median of Geary Boulevard or along the outside curbs (one eastbound BRT lane along the south curb/parking lane; one westbound BRT lane along the north curb/parking lane) and, correspondingly, stations in the median or as extensions of the sidewalk were considered in the Geary BRT feasibility study and warrant further evaluation as part of the EIS and alternatives analysis. All BRT alternatives considered would be designed to be “rail-ready” in terms of vertical and horizontal clearances and operational requirements.

The Authority, in association with SFMTA, will evaluate the procurement of modern low-floor high-capacity vehicles that would be assigned to the BRT service and have added features, such as two-sided, multi-door access, passenger station docking assist, and other amenities. Streetscape improvements, such as enhanced landscaping and pedestrian access along Geary Boulevard, are also included in the proposed BRT project.

V. Probable Effects

The EIS will evaluate and fully disclose the environmental consequences of the construction and operation of a fixed guideway transit system in the Geary Transit Corridor. The EIS will evaluate the impacts of all reasonable alternatives on land use, zoning, residential and business displacements, parklands, economic development, community disruptions, environmental justice, aesthetics, noise, vegetation, water quality, wetlands, waterways, floodplains, hazardous waste materials, and cultural, historic, and archaeological resources. To ensure that all significant issues related to this proposed action are identified and addressed, scoping comments and suggestions on more specific issues of environmental or community impact are invited from all interested parties. Comments and questions should be directed to The Authority as noted in the ADDRESSES section above.

VI. FTA Procedures

The EIS will be prepared in accordance with the National Environmental Policy Act of 1969 (NEPA), as amended, and its implementing regulations by the Council on Environmental Quality (CEQ) (40 CFR parts 1500-1508) and by the FTA and Federal Highway Administration (“Environmental Impact and Related Procedures” at 23 CFR part 771). In accordance with FTA regulation and policy, the NEPA process will also address the requirements of other applicable environmental laws, regulations, and executive orders, including, but not limited to: Federal transit laws [49 U.S.C. 5301(e), 5323(b), and 5324(b)], Section 106 of the National Historic Preservation Act, Section 4(f) (“Protection of Public Lands”) of the U.S. Department of Transportation Act (49 U.S.C. 303), Section 7 of the Endangered Species Act, and the Executive Orders on Environmental Justice, Floodplain Management, and Protection of Wetlands.

Issued on November 19, 2008.
Leslie T. Rogers,
Regional Administrator, Region IX, Federal Transit Administration.

[FR Doc. E8-27868 Filed 11-21-08; 8:45 am]

BILLING CODE 4910-57-P